DEPARTMENT OF TRANSPORTATION

Surface Transportation Board

[STB Finance Docket No. 34753]

Central Illinois Railroad Company—Operation Exemption—Rail Line of the City of Peoria, IL

Central Illinois Railroad Company (CIRY), a Class III rail carrier, has filed a verified notice of exemption under 49 CFR 1150.41, et seq., to operate a line of railroad owned by the City of Peoria, IL (the City), extending easterly approximately 1.9 miles from a point of connection with the Peoria Subdivision of the Union Pacific Railroad Company (UP) at approximately UP milepost 71.5 to a point a short distance west of University Avenue in Peoria, Peoria County, IL.¹

¹ The subject line is proposed to be connected to an 8.29-mile rail line known as the Kellar Branch, which is owned by the City. The City was granted an exemption to construct approximately 1,800 feet of connecting track in Peoria in 2004. See City of Peoria, IL, D/B/A Peoria, Peoria Heights & Western Railroad—Construction of Connecting Track Exemption—In Peoria County, IL, STB Finance Docket No. 34395 (STB served Sept. 17, 2004). Also, CIRY received authority to operate the Kellar Branch in 2004. See Central Illinois Railroad Company—Operation Exemption—Rail Line of the City of Peoria and the Village of Peoria Heights in Peoria and Peoria Heights, Peoria County, IL, STB Finance Docket No. 34518 (STB served July 28, 2004).

Certification is made that CIRY's projected revenues as a result of the transaction will not result in the creation of a Class II or Class I rail carrier. The transaction was scheduled to be consummated no earlier than September 14, 2005 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34753, must be filed with the Surface Transportation Board, 1925 K Street, NW., Washington, DC 20423-0001. In addition, a copy of each pleading must be served on Thomas F. McFarland, 208 South LaSalle Street, Suite 1890, Chicago, IL 60604-1112.

Board decisions and notices are available on our Web site at http://WWW.STB.DOT.GOV.

Decided: September 29, 2005.
By the Board, David M. Konschnik, Director, Office of Proceedings.
Vernon A. Williams,
Secretary.

[FR Doc. 05-20020 Filed 10-5-05; 8:45 am]

BILLING CODE 4915-01-P